ENVIRONMENTAL PROTECTION AGENCY

[EPA-HQ-OPP-2010-0014; FRL-9347-3]

Product Cancellation Order for Certain Pesticide Registrations

AGENCY: Environmental Protection Agency (EPA).

ACTION: Notice.

SUMMARY: This notice announces EPA's order for the cancellations, voluntarily requested by the registrant and accepted by the Agency, of the products listed in Table 1 of Unit II., pursuant to section 6(f)(1) of the Federal Insecticide, Fungicide, and Rodenticide Act (FIFRA), as amended. This cancellation order follows a September 7, 2011 and June 16, 2010 Federal Register Notice of Receipt of Request from the registrants listed in Table 2 of Unit II. to voluntarily cancel these product registrations. In the September 7, 2011 and June 16, 2010 notices, EPA indicated that it would issue an order implementing the cancellations, unless the Agency received substantive comments within the 180 day comment period that would merit its further review of these requests, or unless the registrants withdrew their requests. The Agency received comments on the notices but none merited its further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective May 23, 2012.

FOR FURTHER INFORMATION CONTACT: Jolene Trujillo, Pesticide Re-evaluation Division (7508P), Office of Pesticide Programs, Environmental Protection Agency, 1200 Pennsylvania Ave. NW., Washington, DC 20460-0001; telephone number: (703) 347-0103; fax number: (703) 308-8005; email address: trujillo.jolene@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

The docket for this action, identified by docket identification (ID) number EPA-HQ-OPP-2010-0014, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 33 products registered under FIFRA section 3, or 24(c). These registrations are listed in sequence by registration number in Table 1 of this unit.

Table 1—Product Cancellations
EPA registration No. | Product name | Chemical name
000264-00438 | Bronate Herbicide | MCPA,2-ethylhexyl ester. Bromoxynil octanoate.
000264-00477 | Buctril + Atrazine Herbicide | Bromoxynil octanoate Atrazine.
000264-00586 | Sedagri Batril 20W Herbicide | Bromoxynil octanoate.
000264-00650 | Silverado Herbicide | Fenoxaprop-p-ethyl.
000264-00699 | Rhino Brand Herbicide | MCPA,2-ethylhexyl ester Bromoxynil octanoate Hepatonic acid, 2,6-dibromo-4-cyanophenyl ester.
000264-00799 | Weco Max Brand Herbicide | 2-4-D, 2-ethylhexyl ester Hepatonic acid, 2,6-dibromo-4-cyanophenyl ester Bromoxynil octanoate.
000264-00803 | Spiroxamine Technical | 1,4-Dioxaspiro? 4,5Udecane-2-methanamine,8-(1,1-dimethylethyl)-N-ethyl-N-propyl-.
000264-00804 | Accrue Fungicide | 1,4-Dioxaspiro? 4,5Udecane-2-methanamine,8-(1,1-dimethylethyl)-N-ethyl-N-propyl-.
000264-00842 | Silverado LQ Wild Oat Herbicide | Mesosulfuron-methyl.
000264-01071 | Wolverine Power Pak | Hepatonic acid, 2,6-dibromo-4-cyanophenyl ester Bromoxynil octanoate Puyrasulfotole Technical; Fenoxaprop-p-ethyl.
001043-00060 | T.B. Q. Germicidal Detergent | Alkyl* dimethyl benzyl ammonium chloride *(50%C14, 40%C12, 10%C16).
001719-00043 | Cop-R-Tox Wood Preservative | Copper naphthenate.
004822-00394 | Raid Yard Guard Outdoor Fogger Formula VII | Bioallethrin Permethrin.
004822-00450 | OFF! Yard & Deck Area Repellent II | Bioallethrin Permethrin.
008278-00004 | Metro That's It Dry | Metaldehyde.
009444-00138 | Time-Mist Metered Insecticide II | MGK 264 Piperonyl butoxide Pyrethrins.
009444-00159 | Purge After Hours Plus DS | MGK 264 Piperonyl butoxide Pyrethrins.
053883-00174 | Propicinazole 14.3 | Propiconazole.
062451-00003 | Ant Guard for Hummingbird Feeders | Piperonyl butoxide Pyrethrins.
071992-00001 | Cunap-8 Wood Preservative | Copper naphthenate.
071992-00002 | Cunap-2 | Copper naphthenate.
071992-00003 | CU Nap-5W Wood Preservative | Copper naphthenate.
086203-00013 | Dinotefuran TK | Dinotefruran.
086203-00017 | Dinotefuran 20SG TK | Dinotefruran.
CA050014 | Admire Pro Systemic Protectant | Imidacloprid.
MN070007 | Dinotefuran 20% Turf, Ornamental & Vegetable Transplant | Dinotefruran.
NC910011 | Drexel Sucker Plucker Concentrate | Alcohols, Cx—Cxx.
OH080002 | Tree-Age | Emamectin benzoate.
OR100006 | Dual Magnum Herbicide | S-Metolachlor.
SC910006 | Drexel Sucker Plucker Concentrate | Alcohols, Cx—Cxx.
VA910011 | Drexel Sucker Plucker Concentrate | Alcohols, Cx—Cxx.
WA060012 | DuPont Velpar DF Herbicide | Hexazinone.
WA060013 | DuPont Velpar L Herbicide | Hexazinone.

Table 2 of this unit includes the names and addresses of record for all registrants of the products in Table 1 of this unit, in sequence by EPA company number. This number corresponds to the first part of the EPA registration numbers of the products listed in Table 1 of this unit.

Table 2—Registrants of Cancelled Products
EPA company No. | Company name and address
1043 | Steris Corporation, P.O. Box 147, St. Louis, MO 63166-0147.
1719 | Mobile Paint Manufacturing Company Inc., P.O. Box 717, Theodore, AL 36582.
4822 | S.C. Johnson & Son Inc., 1525 Howe St., Racine, WI 53403.
8278 | Metro Biological Laboratory, 583 Canyon Rd., Redwood City, CA 94062.
9444 | Waterbury Companies Inc., 129 Calhoun St., P.O. Box 640, Independence, LA 70443.
53883 | Control Solutions, Inc., 5903 Genoa-Red Bluff Rd., Pasadena, TX 77507-1041.
62451 | Lineguard Inc., Attn: E.H. Roberts, P.O. Box 839, Elyria, OH 44036.
71992 | Merichem Company, 5455 Old Spanish Trail, Houston, TX 77023.
86203; MN070007 | Mitsui Chemicals Agro, Inc., AGENT: Landis International, Inc., P.O. Box 5126, Valdosta, GA 31603-5126.
264; CA050014 | Bayer CropScience LP, 2 T.W. Alexander Dr., P.0. Box 12014, Research Triangle Park, NC 27709.
NC910011; SC910006; VA910011 | Drexel Chemical Company, 1700 Channel Ave., P.0. Box 13327, Memphis,TN 38113-0327.
OH080002; OR100006 | Syngenta Crop Protection, LLC D/B/A Syngenta Crop Protection, Inc., P.O. Box 18300, Greensboro, NC 27419-8300.
WA060012; WA060013 | E.I. DuPont De Nemours and Co., Inc. (S300/419), ATTN: Manager, U.S. Registration, DuPont Crop Protection, 1007 Market St., Wilmington, DE 19898-0001.

III. Summary of Public Comments Received and Agency Response to Comments

EPA received one comment that was not substantive. Therefore, the Agency does not believe that the comment submitted during the comment period merits further review or a denial of the requests for voluntary cancellation.

IV. Cancellation Order

Pursuant to FIFRA section 6(f), EPA hereby approves the requested cancellations of the registrations identified in Table 1 of Unit II. Accordingly, the Agency hereby orders that the product registrations identified in Table 1 of Unit II. are cancelled. The effective date of the cancellations that are the subject of this notice is May 23, 2012. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of September 7, 2011 (76 FR 55385) (FRL-8887-1) and the issue of June 16, 2010 (75 FR 34117) (FRL-8827-1). The comment periods closed on March 5, 2012 and December 13, 2010, respectively.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until May 23, 2013, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or, use is consistent with the terms of the previously approved labeling on, or, that accompanied, the cancelled products.

List of Subjects

Environmental protection, Pesticides and pests.

Dated: May 10, 2012.
Michael Goodis,
Acting Director, Pesticide Re-evaluation Division, Office of Pesticide Programs.

[FR Doc. 2012-12488 Filed 5-22-12; 8:45 am]

BILLING CODE 6560-50-P